DEPARTMENT OF HEALTH AND HUMAN SERVICES

Health Resources and Services Administration

Request for Information: 340B Rebate Model Pilot Program Extension

AGENCY: Health Resources and Services Administration (HRSA), Department of Health and Human Services.

ACTION: Notice of extension for the comment period for the Request for Information: 340B Rebate Model Pilot Program (91 FR 7287).

SUMMARY: The Health Resources and Services Administration (HRSA) is extending the comment period for Request for Information: 340B Rebate Model Pilot Program from 30 days to 60 days. The change will provide stakeholders additional time to submit meaningful comments for HRSA's review in evaluating operational, financial, and potential impacts on access to drugs for patients under a rebate model.

DATES: Comments on this notice should be received no later than April 20, 2026.

FOR FURTHER INFORMATION CONTACT: Chantelle Britton, Director, Office of Pharmacy Affairs (OPA), Office of Special Health Initiatives, HRSA, 5600 Fishers Lane, Mail Stop 10W29, Rockville, MD 20857; email: 340Bpricing@hrsa.gov; telephone: 301-594-4353.

SUPPLEMENTARY INFORMATION: None.

Thomas J. Engels,
Administrator.

[FR Doc. 2026-03838 Filed 2-25-26; 8:45 am]

BILLING CODE P